SECURITIES AND EXCHANGE COMMISSION

[File No. 500-1]

In the Matter of AGR Tools, Inc., Arcadia Resources, Inc., Citizens First Bancorp, Inc., First Capital International, Inc., GreenTek Corp., and Metabolic Research, Inc., Order of Suspension of Trading

September 18, 2014.

It appears to the Securities and Exchange Commission that there is a lack of current and accurate information concerning the securities of AGR Tools, Inc. because it has not filed any periodic reports since the period ended March 31, 2012.

It appears to the Securities and Exchange Commission that there is a lack of current and accurate information concerning the securities of Arcadia Resources, Inc. because it has not filed any periodic reports since the period ended December 31, 2011.

It appears to the Securities and Exchange Commission that there is a lack of current and accurate information concerning the securities of Citizens First Bancorp, Inc. because it has not filed any periodic reports since the period ended June 30, 2009.

It appears to the Securities and Exchange Commission that there is a lack of current and accurate information concerning the securities of First Capital International, Inc. because it has not filed any periodic reports since the period ended March 31, 2010.

It appears to the Securities and Exchange Commission that there is a lack of current and accurate information concerning the securities of GreenTek Corp. because it has not filed any periodic reports since the period ended March 31, 2012.

It appears to the Securities and Exchange Commission that there is a lack of current and accurate information concerning the securities of Metabolic Research, Inc. because it has not filed any periodic reports since the period ended September 30, 2010.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 18, 2014, through 11:59 p.m. EDT on October 1, 2014.

By the Commission.
Jill M. Peterson,
Assistant Secretary.

[FR Doc. 2014-22573 Filed 9-18-14; 4:15 pm]

BILLING CODE 8011-01-P